DEPARTMENT OF AGRICULTURE

Office of the Secretary

[Docket No. 01-019-1]

Declaration of Emergency Because of Chronic Wasting Disease

Chronic wasting disease (CWD), a disease of deer and elk, is part of a group of diseases known as transmissible spongiform encephalopathies (TSE's), a group that also includes scrapie and bovine spongiform encephalopathy (BSE). While considered rare, the incidence of CWD is on the rise among both wild and domestic cervids. The disease, which occurs mostly in adult animals, is progressive and always fatal. The origin and mode of transmission of CWD are unknown. The disease has become of particular concern due to its fatal nature, lack of known prevention or treatment, its impact on the farmed cervid industry, and its possible transmissibility to cattle or other domestic livestock and humans.

CWD is known to be endemic in free-ranging deer and elk in a limited area in the western United States. Officials have detected it in free-ranging deer and elk in southeastern Wyoming, northeastern Colorado, and southwestern Nebraska. State departments of wildlife are taking steps to conduct surveillance in the endemic areas and to control the spread of CWD in wild cervids.

In recent years, CWD has been found in 14 captive elk herds in Colorado, Montana, Nebraska, Oklahoma, and South Dakota. Some of these herds have since been depopulated. Of the 2,300 farmed elk herds (with a total of 110,000 animals) in the United States, currently only 4 (with a total of approximately 1,000 animals) are known to be CWD-positive. We do not know the full extent of infection in farmed elk in the United States. Limited funds and the absence of a CWD program have allowed the Animal and Plant Health Inspection Service (APHIS) to conduct only minimal surveillance and testing, and not depopulation. Presently, herds are placed under State quarantine when infection is found.

While current efforts have been sufficient to depopulate or send to slaughter a number of positive herds, primarily through State indemnity programs and voluntary depopulation, APHIS has determined that this method will not work to eliminate the disease in farmed cervids. First, there is no live animal test for CWD, so it is impossible to determine whether a live animal is positive; nor is there a vaccine to prevent the disease. Second, the incubation period is lengthy, and 3 to 5 years of continued surveillance is needed (with no new infection found) before a herd can be declared free of CWD through quarantine. To date, only 1 of the 14 known CWD-positive herds has been declared free of CWD following quarantine.

Indemnity from State programs has not been adequate to pay fair market value for depopulated elk, so each depopulation has caused considerable financial loss to the herd owner. Because no funds are available within APHIS for depopulation and payment of indemnity, the only option for producers to gain some compensation for eliminating a CWD-positive herd is to slaughter the animals for human consumption. This option represents a very limited incentive for producers to participate in an eradication program. Also, it poses potential problems related to contamination of slaughter facilities and potential human exposure to preclinical infected animals that are not detectable with our current testing tools.

Aggressive action in controlling this disease now will decrease the chance of having to deal with a much larger, widespread, and costly problem later, such as the situation with BSE in Europe. The European Union is struggling to rebuild consumer confidence in Europe's beef after recent outbreaks of BSE in France, Spain, and Germany. As demonstrated in Europe, once shaken, consumer confidence is very difficult to rebuild. BSE's human form, known as variant Creutzfeldt-Jakob Disease (vCJD), has killed more than 80 people in the United Kingdom and 2 in Spain. There is no known cure for this deadly disease, or for any of the other diseases caused by TSE's that affect humans or animals. Although there is currently no evidence that CWD is linked to disease in humans, or in domestic animals other than deer and elk, a theoretical risk of such a link exists. Public perception and consumer fears that CWD from deer and elk could cause disease in humans or in domestic livestock could destroy the markets for elk or deer products. Canada has prohibited the import of U.S. cervids due to CWD, and other countries are contemplating import restrictions on elk and deer and their products. Recently, Korea informed APHIS that it is temporarily suspending the importation of deer and elk and their products from the United States and Canada.

Without a Federal program in place to depopulate infected and exposed animals, the movement of infected elk into new herds and States with no known infection will continue or may even accelerate. APHIS needs to take action to document the prevalence of the disease and to prevent its further spread. Furthermore, the Agency needs to demonstrate, as with other TSE's, that it is able and willing to take early and effective action to protect the health of U.S. animals and animal industries.

Therefore, in order to address the CWD threat to U.S. livestock, APHIS has determined that additional funds are needed for a CWD eradication program. In addition to the purchase of animals, the additional funds will be used for program activities such as depopulation and disposal, clean-up and disinfection, establishment of surveillance and certification programs, testing, implementation and maintenance of quarantines, surveillance, and training for producers and veterinarians. These additional funds will reduce the spread of CWD in captive elk herds and discourage entry of positive or exposed animals into the human and animal food chains, and should save the Federal Government and farmed elk industry from having to deal with a more costly and widespread problem later.

Therefore, in accordance with the provisions of the Act of September 25, 1981, as amended (7 U.S.C. 147b), I declare that there is an emergency that threatens the livestock industry of this country and hereby authorize the transfer and use of such funds as may be necessary from appropriations or other funds available to the agencies or corporations of the United States Department of Agriculture to establish a chronic wasting disease eradication program in the United States.

Effective Date: This declaration of emergency shall become effective September 21, 2001.
Ann M. Veneman,
Secretary of Agriculture.

[FR Doc. 01-24192 Filed 9-26-01; 8:45 am]

BILLING CODE 3410-34-P